DEPARTMENT OF ENERGY

Federal Energy Regulatory Commission

[Docket No. RP01-47-000]

Viking Gas Transmission Company; Notice of Filing of Request for Exemption

October 18, 2000.

Take notice that on October 13, 2000, Viking Gas Transmission Company (Viking), tendered for filing a request for exemption from Order No. 587-L, Standards for Business Practices of Interstate Natural Gas Pipelines, FERC Regulations, Preambles 31,100 (2000) in compliance with the Commission's September 28, 2000 “Order Granting Clarification” issued in Docket No. RM96-1-016.

Viking states that copies of this filing have been served on all Viking's jurisdictional customers and to affect state regulatory commissions.

Any person desiring to be heard or to protest said filing should file a motion to intervene or a protest with the Federal Energy Regulatory Commission, 888 First Street, NE., Washington, DC 20426, in accordance with Section 385.214 or 385.211 of the Commission's Rules and Regulations. All such motions or protests must be filed on or before October 25, 2000 considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-27272 Filed 10-23-00; 8:45 am]

BILLING CODE 6717-01-M